ENVIRONMENTAL PROTECTION AGENCY

[FRL-8772-9]

Proposed CERCLA Administrative Cost Recovery Settlement; Camargo Club, Cincinnati, OH

AGENCY: Environmental Protection Agency.

ACTION: Notice; request for public comment.

SUMMARY: In accordance with Section 122(i) of the Comprehensive Environmental Response, compensation, and Liability Act, as amended (“CERCLA”), 42 U.S.C. 9622(i), notice is hereby given of a proposed administrative settlement for recovery of past response costs concerning the Given Road Lead site in Cincinnati, Ohio with the following settling party: Camargo Club of Cincinnati, Ohio. The settlement requires the settling party to pay $45,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the following location: Records Center, U.S. EPA, Region 5, 7th Floor, 77 W. Jackson Blvd., Chicago, IL 60604.

DATES: Comments must be submitted on or before March 27, 2009.

ADDRESSES: The proposed settlement is available for public inspection at the following location: Records Center, U.S. EPA, Region 5, 7th Floor, 77 W. Jackson Blvd., Chicago, IL.

A copy of the proposed settlement may be obtained from Terence Stanuch, Associate Regional Counsel, U.S. Environmental Protection Agency, 77 West Jackson Boulevard, Mail Code C-14J, Chicago, Illinois 60604. Comments should reference the Given Road Lead Site in Cincinnati, Ohio and EPA Docket No. V-W-09-C-919 and should be addressed to Terence Stanuch at the EPA address noted above.

FOR FURTHER INFORMATION CONTACT: Terence Stanuch, Associate Regional Counsel, 77 West Jackson Blvd., Mail Code C-14J, Chicago, Illinois 60604, (312) 886-8044.

Dated: January 30, 2009.
Richard C. Karl,
Director, Superfund Division.

[FR Doc. E9-4008 Filed 2-24-09; 8:45 am]

BILLING CODE 6560-50-P